DEPARTMENT OF LABOR

Employment and Training Administration

[TA-W-57,983]

SKF Sealing Solutions; SKF Automotive Division; Springfield, SD; Notice of Termination of Investigation

Pursuant to Section 221 of the Trade Act of 1974, as amended, an investigation was initiated on September 20, 2005 in response to a petition filed by a company official on behalf of workers at SKF Sealing Solutions, SKF Automotive Division, Springfield, South Dakota.

The petitioners have requested that the petition be withdrawn. Consequently, the investigation has been terminated.

Signed at Washington, DC, this 17th day of October, 2005.
Linda G. Poole,
Certifying Officer, Division of Trade Adjustment Assistance.

[FR Doc. E5-6133 Filed 11-3-05; 8:45 am]

BILLING CODE 4510-30-P